DEPARTMENT OF LABOR

Office of the Secretary

Submission for OMB Review; Comment Request

February 26, 2004.

The Department of Labor (DOL) has submitted the following public information collection request (ICR) to the Office of Management and Budget (OMB) for review and approval in accordance with the Paperwork Reduction Act of 1995 (Pub. L. 104-13, 44 U.S.C. Chapter 35). A copy of each ICR, with applicable supporting documentation, may be obtained by contacting the Department of Labor (DOL). To obtain documentation, contact Ira Mills on 202-693-4122 (this is not a toll-free number) of e-Mail: mills.ira@dol.gov.

Comments should be sent to Office of Information and Regulatory Affairs, Attn: OMB Desk Officer for DOL, Office of Management and Budget, Room 10235, Washington, DC 20503, 202-395-7316 (this is not a toll-free number), within 30 days from the date of this publication in the Federal Register.

The OMB is particularly interested in comments which:

• Evaluation whether the proposed collection of information is necessary for the proper performance of the functions of the agency, including whether the information will have practical utility;

• Evaluate the accuracy of the agency's estimate of the burden of the proposed collection of information; including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension of a currently approved collection.

Title: Title 29 CFR part 30—Equal Employment Opportunity in Apprenticeship and Training.

OMB Number: 1205-0224.

Frequency: On occasion.

Affected Public: Business or other for-profit; Individuals or households; Not-for-profit institutions; Federal Government; and State, Local, or Tribal govt.

Number of Respondents: 32,036.

Number of Annual Responses: 53,235.

Estimated Time Per Response:

Section No. | Affected public | Respondents | Frequency | Per response | Hours
30.3 | Apprenticeship Sponsors | 1,604 | One-time | 30 min. | 802
30.4 | Apprenticeship Sponsors | 84 | One-time | 1 hr. | 84
30.5 | Apprenticeship Sponsors | 5,750 | One-time | 30 min. | 2,875
30.6 | Apprenticeship Sponsors | 50 | One-time | 5 hrs. | 50
30.8 | Apprenticeship Sponsors | 31,956 | One-time | 1 min. | 533
30.8 | Apprenticeship Programs | 30 | One-time | 5 min. | 1,145
ETA 9039 | Apprentice | 50 | One-time | 30 min. | 25

Total Burden Hours: 5,714.

Description: Title 29 CFR part 30 sets forth policies and procedures to promote equality of opportunity in apprenticeship programs registered with the U.S. Department of Labor and recognized State apprenticeship agencies.

Ira L. Mills,
Departmental Clearance Officer.

[FR Doc. 04-4954 Filed 3-4-04; 8:45 am]

BILLING CODE 4510-30-M